DEPARTMENT OF THE INTERIOR

Bureau of Land Management

[WO-220-05-1020-JA-VEIS]

Notice of Availability of the Record of Decision for the Final Programmatic Environmental Impact Statement for Vegetation Treatments Using Herbicides on Bureau of Land Management Lands in 17 Western States

AGENCY: Bureau of Land Management, Interior.

ACTION: Notice of Availability.

SUMMARY: Pursuant to Section 102(2)(C) of the National Environmental Policy Act of 1969 (NEPA), the Bureau of Land Management (BLM) hereby gives notice that the Record of Decision for the Final Programmatic Environmental Impact Statement (FPEIS) for vegetation treatments using herbicides on public lands administered by BLM in 17 western states, including Alaska, is available. The BLM is the lead Federal agency for the preparation of this FPEIS, in compliance with the requirements of NEPA. The decision selects for use the four herbicides identified in Alternative B of the FPEIS. These herbicides are: Diquat, diflufenzopyr (in formulation with dicamba), fluridone, and imazapic. The BLM also selects for continued use the following 14 Environmental Protection Agency (EPA) registered active ingredients: 2,4-D, bromacil, chlorsulfuron, clopyralid, dicamba, diuron, glyphosate, hexazinone, imazapyr, metsulfuron methyl, picloram, sulfometuron methyl, tebuthiuron, and triclopyr. The BLM does not select for use the following six-herbicide active ingredients: 2,4-DP, asulam, atrazine, fosamine, mefluidide, and simazine. As part of the Proposed Action and this decision, the BLM also adopts the protocol for identifying, evaluating and approving herbicides. The Record of Decision identifies best management practices, standard operating procedures and mitigation measures for all vegetation treatment projects involving the use of herbicides.

ADDRESSES: Copies of the Record of Decision are available in hard copy or CD upon request from Brian Amme, Nevada State Office, P.O. Box 12000, 1340 Financial Blvd., Reno, NV 89520, or via the Internet at the BLM National Web site http://www.blm.gov/. The Record of Decision is available for review in either hard copy or on compact disks (CDs) at all BLM State, District, and Field Office public rooms.

FOR FURTHER INFORMATION CONTACT: Brian Amme, Project Manager at (775) 861-6645 or e-mail: brian_amme@blm.gov.

SUPPLEMENTARY INFORMATION: This national, FPEIS provides a comprehensive analysis of BLM's use of chemical herbicides in its various vegetation treatment programs related to hazardous fuels reduction; noxious weed, invasive terrestrial and aquatic plant species management; resource rehabilitation following catastrophic fires, and other disturbances. The FPEIS addresses human health and ecological risk for use of chemical herbicides on public lands and provides a cumulative impact analysis of the use of chemical herbicides in conjunction with other treatment methods. The decision area includes public lands administered by 11 BLM state offices: Alaska, Arizona, California, Colorado, Idaho, Montana (North Dakota/South Dakota), New Mexico (Oklahoma/Texas/Nebraska), Nevada, Oregon (Washington), Utah and Wyoming.

The BLM issued a Notice of Availability November 10, 2005, of BLM's Draft Vegetation Treatments Using Herbicides Programmatic Environmental Impact Statement and Draft Programmatic Environmental Report. The BLM held ten public hearings in late 2005, and extended the public comment period an additional 30 days to February 10, 2006.

The BLM responded to over 5,500 individual public comments during the Draft Programmatic EIS public review period. Comment responses and resultant changes in the impact analysis are documented in this FPEIS and Environmental Report per requirements under 40 CFR 1503.4. Additional information and analysis is included in the FPEIS addressing comments related to degradates, use of Polyoxyethylene-amine (POEA) OEA and R-11 surfactants and risks associated with endocrine disrupting chemicals. In addition, the FPEIS contains Subsistence analysis required under Section 801(a) of the Alaska National Interest Lands Conservation Act (ANILCA). This decision was approved by the Department of the Interior, Assistant Secretary for Land and Minerals Management; therefore, no administrative review through the Interior Board of Land Appeals pursuant to 43 CFR 4.5 will be available on the decisions made by this Record of Decision.

Todd S. Christensen,
Acting Assistant Director, Renewable Resources and Planning.

[FR Doc. E7-19699 Filed 10-4-07; 8:45 am]

BILLING CODE 4310-84-P